DEPARTMENT OF HOMELAND SECURITY

Coast Guard

33 CFR Part 100

[CGD07-03-099]

RIN 1625-AA08

Special Local Regulations; World Championship Super Boat Race, Deerfield Beach, FL

AGENCY: Coast Guard, DHS.

ACTION: Temporary final rule.

SUMMARY: Temporary special local regulations are being established for the World Championship Super Boat Race held offshore of Deerfield Beach, Florida. These special local regulations restrict the movement of non-participating vessels in the regulated race area and provide for a viewing area for spectator craft. This rule is needed to provide for the safety of life on navigable waters during the event.

DATES: This rule is effective from 11 a.m. on November 4, 2003, until 4 p.m. on November 9, 2003.

ADDRESSES: Documents indicated in the preamble as being available in the docket are part of docket [CGD07-03-099] and are available for inspection or copying at Coast Guard Group Miami, 100 MacArthur Causeway, Miami Beach, FL 33139 between 8 a.m. and 4:30 p.m., Monday through Friday, except Federal holidays.

FOR FURTHER INFORMATION CONTACT: Chief Daniel Vaughn, Coast Guard Group Miami, FL at (305) 535-4317.

SUPPLEMENTARY INFORMATION:

Regulatory Information

We did not publish a notice of proposed rulemaking (NPRM) for this regulation. Under 5 U.S.C. 553(b)(B), the Coast Guard finds that good cause exists for not publishing an NPRM. Publishing an NPRM, which would incorporate a comment period before a temporary rule could be issued, would be impracticable and contrary to public interest since immediate action is needed to minimize the potential danger to the public posed by the powerboat race and the number of expected spectator craft.

For the same reasons, under 5 U.S.C. 553(d)(3), the Coast Guard finds that good cause exists for making this rule effective less than 30 days after publication in the Federal Register.

Background and Purpose

Super Boat International Productions Inc. is sponsoring a high speed power boat race that will take place on November 4, 6, and 9, 2003, from 11 a.m. until 4 p.m. in the Atlantic Ocean off Deerfield Beach, Florida. The race organizers anticipate 80 participants and 200 spectator craft. The event will take place outside of the marked channel and will not interfere with commercial shipping. Recreational vessels and fishing vessels normally operate in the waters being used for the event. This rule is required to provide for the safety of life on navigable waters because of the inherent dangers associated with power boat races. The rule prohibits non-participating vessels from entering the regulated race area offshore of Deerfield Beach, Florida during the event. A Coast Guard Patrol Commander will be present during this event to monitor compliance with this regulation.

Discussion of Rule

This rule will create two regulated areas, a race area and a viewing area. These regulated areas assist in providing for the safety of life on navigable waters and minimizing the inherent dangers associated with power boat races. These dangers include race craft traveling at high speeds in close proximity to one other, and in relatively close proximity to spectator craft. Due to these concerns, public safety requires the creation of these two regulated areas.

Regulatory Evaluation

This rule is not a significant regulatory action under section 3(f) of Executive Order 12866, Regulatory Planning and Review, and does not require an assessment of potential costs and benefits under section 6(a)(3) of that Order. The Office of Management and Budget has not reviewed it under that Order. It is not “significant” under the regulatory policies and procedures of the Department of Homeland Security (DHS). The rule will be in place in a limited area offshore of Deerfield Beach, Florida. Although the rule will be effective from November 4 until November 9 the rule will only be enforced on November 4, 6 and 9, from 11 a.m. until 4 p.m. each day, corresponding with the scheduled races.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

This rule may affect the following entities, some of which may be small entities: the owners or operators of vessels intending to transit or anchor in a portion of the Atlantic Ocean near Deerfield Beach, Florida from 11 a.m. until 4 p.m. on November 4, 6, and 9, 2003. The Coast Guard certifies under U.S.C. 605(b) that this rule will not have a significant economic impact on a substantial number of small entities because this rule will be in effect for a limited duration, the rule regulates a very small area, and commercial and recreational vessels may be allowed to transit through the zone during breaks in the racing. Moreover, all vessel traffic can pass safely around the zone. Before the effective period, we will issue maritime advisories over VHF-FM radio to allow the maritime community to plan accordingly.

Assistance for Small Entities

Under section 213(a) of the Small Business Regulatory Enforcement Fairness Act of 1996 (Public Law 104-121), we offer to assist small entities in understanding the rule so that they can better evaluate its effects on them and participate in the rulemaking process. Small entities may contact the person listed under FOR FURTHER INFORMATION CONTACT for assistance in understanding and participating in this rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt state law or impose a substantial direct cost of compliance on them. We have analyzed this rule under that Order and have determined that it does not have implications for Federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(h), of the Instruction, from further environmental documentation. A final “Environmental Analysis Check List” and a final “Categorical Exclusion Determination” are available in the docket where indicated under ADDRESSES.

List of Subjects in 33 CFR Part 100

Marine safety, Navigation (water), Reporting and record keeping requirements, Waterways.

For the reasons discussed in the preamble, the Coast Guard amends 33 CFR part 100, as follows:

PART 100—SAFETY OF LIFE ON NAVIGABLE WATERS

1. The authority citation for part 100 continues to read as follows:

Authority: 33 U.S.C. 1233; Department of Homeland Security Delegation No. 0170.1.

2. Add temporary § 100.35T-07-099 to read as follows:

§ 100.35T-07-099 World Championship Super Boat Race; Deerfield Beach, Florida.

(a) Regulated areas. (1) The regulated race area encompasses all waters located within a line connecting the following positions located offshore of Deerfield Beach, Florida—Point 1: 26°15.70 N, 080°04.90 W; Point 2: 26°15.70 N, 080°04.10 W, Point 3: 26°19.70 N, 080°03.70 W, and Point 4: 26°19.70 N, 080°04.40 W. All coordinates referenced use Datum: NAD 1983.

(2) The regulated viewing area encompasses all waters located within a line connecting the following positions located offshore of Deerfield Beach, Florida—Point 1: 26°15.50 N; 080°04.20 W; Point 2: 26°15.50 N; 080°04.00 W; Point 3: 26°19.39 N; 080°03.90 W; and Point 4: 26°19.39 N; 080°04.05 W. All coordinates referenced use Datum NAD: 1983.

(b) Coast Guard Patrol Commander. The Coast Guard Patrol Commander is a commissioned, warrant, or petty officer of the Coast Guard who has been designated by Commanding Officer, Coast Guard Group Miami, Florida.

(c) Special Local Regulations. From 11 a.m. until 4 p.m. on November 4, November 6, and November 9, 2003, non-participant vessels are prohibited from entering the race area unless authorized by the Coast Guard Patrol Commander. Spectator craft may remain in the designated viewing area, but must follow the directions of the Coast Guard Patrol Commander.

(d) Dates: This section is effective from 11 a.m. on November 4, 2003, until 4 p.m. on November 9, 2003.

Dated: October 31, 2003.
Harvey E. Johnson, Jr.,
Rear Admiral, U.S. Coast Guard, Commander, Seventh Coast Guard District.

[FR Doc. 03-28012 Filed 11-6-03; 8:45 am]

BILLING CODE 4910-15-P